DEPARTMENT OF AGRICULTURE

Agricultural Marketing Service

[Doc. No. AMS-FV-10-0064]

Fruit and Vegetable Industry Advisory Committee

AGENCY: Agricultural Marketing Service, USDA.

ACTION: Notice of public meeting.

SUMMARY: The purpose of this notice is to notify all interested parties that the Agricultural Marketing Service (AMS) will hold a Fruit and Vegetable Industry Advisory Committee (Committee) meeting that is open to the public. The U.S. Department of Agriculture (USDA) established the Committee to examine the full spectrum of issues faced by the fruit and vegetable industry and to provide suggestions and ideas to the Secretary of Agriculture on how USDA can tailor its programs to meet the fruit and vegetable industry's needs. This notice sets forth the schedule and location for the meeting.

DATES: Monday, September 13, 2010, from 8 a.m. to 5 p.m., and Tuesday, September 14, 2010, from 8 a.m. to 3 p.m.

ADDRESSES: The Committee meeting will be held at the Crowne Plaza Old Town Alexandria, 901 North Fairfax Street, Alexandria, Virginia 22314.

FOR FURTHER INFORMATION CONTACT: Pamela Stanziani, Designated Federal Official, USDA, AMS, Fruit and Vegetable Programs. Telephone: (202) 690-0182. Facsimile: (202) 720-0016. E-mail: Pamela.stanziani@ams.usda.gov.

SUPPLEMENTARY INFORMATION: Pursuant to the Federal Advisory Committee Act (FACA) (5 U.S.C. App. II), the Secretary of Agriculture established the Committee in August 2001 to examine the full spectrum of issues faced by the fruit and vegetable industry and to provide suggestions and ideas to the Secretary on how USDA can tailor its programs to meet the fruit and vegetable industry's needs. The Committee was re-chartered March 31, 2009 with new members appointed December 2009 by USDA from industry nominations.

AMS Deputy Administrator for Fruit and Vegetable Programs, Robert C. Keeney, serves as the Committee's Executive Secretary. Representatives from USDA mission areas and other government agencies affecting the fruit and vegetable industry are called upon to participate in the Committee's meetings as determined by the Committee Chairperson. AMS is giving notice of the Committee meeting to the public so that they may attend and present their recommendations. The meeting is open to the public. Reference the date and address section of this announcement for the time and place of the meeting.

Topics of discussion at the advisory committee meeting will include the following: GAP harmonization and audit requirements, food safety updates, local farmer/education initiatives, commodity purchasing programs, and working group reports and recommendations to the full committee.

Those parties that would like to speak at the meeting should register on or before September 1, 2010. To register as a speaker, please e-mail your name, affiliation, business address, e-mail address, and phone number to Ms. Pamela Stanziani at: Pamela.stanziani@ams.usda.gov or facsimile to (202) 720-0016. Speakers who have registered in advance will be given priority. Groups and individuals may submit comments for the Committee's consideration to the same e-mail address, or mail to: 1400 Independence Avenue, SW., Room 2085-South, Washington, DC 20250. The meeting will be recorded, and information about obtaining a transcript will be provided at the meeting. All presentations must be provided and displayed electronically, and submitted upon designated due date.

If you require special accommodations, such as a sign language interpreter, please use either contact name listed above.

Dated: August 2, 2010.
David R. Shipman,
Acting Administrator, Agricultural Marketing Service.

[FR Doc. 2010-19366 Filed 8-5-10; 8:45 am]

BILLING CODE P